DEPARTMENT OF HOUSING AND URBAN DEVELOPMENT

[Docket No. FR-7016-N-02]

60-Day Notice of Proposed Information Collection: Application for Distressed Cities Technical Assistance NOFA

AGENCY: Office of Policy Development and Research, HUD.

ACTION: Notice.

SUMMARY: The Department of Housing and Urban Development (HUD) is seeking approval from the Office of Management and Budget (OMB) for the information collection described below. In accordance with the Paperwork Reduction Act, HUD is requesting comments from all interested parties on the proposed collection of information. The purpose of this notice is to allow for 60 days of public comment.

DATES: Comments Due Date: January 3, 2020.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or by email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410-5000; email Anna P. Guido at Anna.P.Guido@hud.gov or telephone 202-402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the proposed collection of information described in Section A.

A. Overview of Information Collection

Title of Information Collection: Application for Distressed Cities Technical Assistance NOFA.

OMB Approval Number: New Collection.

Type of Request: New Collection.

Form Number: SF-424, SF-LLL, HUD-2880.

Description of the need for the information and proposed use: Application information is needed to determine the competition winner, i.e., the technical assistance provider best able to help distressed communities adopt effective, efficient, and sustainable financial management practices, build capacity for financial management, economic revitalization, affordable housing, and disaster recovery, and improve knowledge of federal development programs.

Members of Affected Public: Organizations.

Estimated Number of Respondents: 10.

Estimated Time per Response: 44 hours.

Frequency of Response: 1.

Estimated Total Annual Burden Hours: 440 hours.

Estimated Total Annual Cost: The total estimated cost is $11,000.

Legal Authority: Section 3507 of the Paperwork Reduction Act of 1995, 44 U.S.C. Chapter 35.

Respondents (i.e., affected public): Organizations.

Information collection | Number of respondents | Frequency of response | Responses per annum | Burden hour per response | Annual burden hours | Hourly cost per response | Annual cost
Pre-Award
Narrative Response | 10 | 1 | 10 | 40.00 | 400.00 | $25.00 | $10,000.00
HUD SF-424 | 10 | 1 | 10 | 2.00 | 20.00 | 25.00 | 500.00
HUD-2880 | 10 | 1 | 10 | 2.00 | 20.00 | 25.00 | 500.00
SF-LLL* |  |  |  |  |  |  |
Total | 10 |  |  | 44.00 | 440.00 | 25.00 | 11,000.00
* Per OMB, Standard Form should be listed, but the burden does not need to be included as part of the collection. Annualized Cost @$25/hr: $62,361.00.

B. Solicitation of Public Comment

This notice solicits comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses.

HUD encourages interested parties to submit comment in response to these questions.

C. Authority

Section 3507 of the Paperwork Reduction Act of 1995, 44 U.S.C. Chapter 35.

Dated: October 7, 2019.
Seth Appleton,
Assistant Secretary for Policy Development and Research.

[FR Doc. 2019-23962 Filed 11-1-19; 8:45 am]

BILLING CODE 4210-67-P